DEFENSE NUCLEAR FACILITIES SAFETY BOARD

10 CFR Part 1707

[Docket No. DNFSB-2022-0001]

Testimony by DNFSB Employees and Production of Official Records in Legal Proceedings

AGENCY: Defense Nuclear Facilities Safety Board.

ACTION: Direct final rule; confirmation of effective date.

SUMMARY: The Defense Nuclear Facilities Safety Board (DNFSB or Board) is confirming the effective date of July 14, 2022, for the direct final rule that was published in the Federal Register on April 15, 2022. The direct final rule revised the Board's Touhy regulations to clarify that they only apply when the United States or DNFSB is not a party in the underlying legal proceeding.

DATES: The effective date of July 14, 2022, for the direct final rule published April 15, 2022 (87 FR 22436), is confirmed.

ADDRESSES: DNFSB's General Counsel Web page: Go to https://www.dnfsb.gov/office-general-counsel and click “Rulemaking-DNFSB-2022-0001” to access publicly available information related to this rulemaking.

FOR FURTHER INFORMATION CONTACT: Eric Fox, Associate General Counsel, Defense Nuclear Facilities Safety Board, 625 Indiana Avenue NW, Suite 700, Washington, DC 20004-2901, (202) 694-7000.

SUPPLEMENTARY INFORMATION: On April 15, 2022 (87 FR 22436), the DNFSB published a direct final rule amending its regulations in part 1707 of title 10 of the Code of Federal Regulations regarding testimony by DNFSB employees and production of documents in legal proceedings. The DNFSB published this direct final rule to clarify that the regulations do not apply to legal proceedings in which the DNFSB or United States is not a party.

In the direct final rule, the DNFSB stated that if no significant adverse comments were received, the direct final rule would become effective on July 14, 2022. The DNFSB received no comments, and the direct final rule will become effective as scheduled.

Dated: June 9, 2022.
Joyce Connery,
Chair.

[FR Doc. 2022-12784 Filed 6-13-22; 8:45 am]

BILLING CODE 3670-01-P